DEPARTMENT OF COMMERCE

National Oceanic and Atmospheric Administration, National Marine Fisheries Service

[I.D. 072403C]

Availability of the Humboldt Bay Municipal Water District Habitat Conservation Plan for its Mad River Operations, Implementation Agreement, and Draft Environmental Assessment, Humboldt County, California

AGENCY: National Marine Fisheries Service, National Oceanic and Atmospheric Administration, Commerce.

ACTION: Notice of Availability; request for comments.

SUMMARY: The Humboldt Bay Municipal Water District of Humboldt County, California (District) has applied for an Incidental Take Permit (ITP) from the National Marine Fisheries Service (NMFS) pursuant to the Endangered Species Act, as amended (ESA). In conjunction with this application, the District has prepared a Habitat Conservation Plan for its Mad River Operations (Plan) and an Implementation Agreement (IA). NMFS has prepared and announces the availability of a draft Environmental Assessment (EA) for the District's ITP application. The District's ITP application is related to their managed release and diversion of flow in the Mad River, located in Humboldt County, CA, and to their operation and maintenance of facilities associated with this activity. The duration of the proposed ITP and Plan is 50 years.

NMFS is providing this notice in order to allow other agencies and the public an opportunity to review and comment on the ITP application, Plan, IA, and draft EA, to scope alternatives and impacts to be considered, and to comment on effects to cultural and historic properties. All comments received will become part of the public record and will be available for review pursuant to the ESA.

DATES: Public meetings will be held on August 20, 2003, from 1 p.m. to 3 p.m. and 5 p.m. to 7 p.m. in Eureka, CA. Written comments on the ITP application, Plan, IA, and draft EA, the scope of alternatives and impacts, and effects to cultural and historic properties must be received on or before September 2, 2003 to be considered.

ADDRESSES: Public meetings will be held at the District office, located at 828 Seventh Street, Eureka, CA 95501. Oral and written comments will be received at the meetings. Written comments may also be sent to Mr. Sam Flanagan, National Marine Fisheries Service, 1655 Heindon Road, Arcata, CA 95521 or sent by facsimile to (707) 825-4840. NMFS will not accept comments via the Internet. Documents are available for viewing and download on the Internet at http://swr.nmfs.noaa.gov or may be obtained by calling NMFS at (707) 822-7201. Hard bound copies are also available for viewing, or partial or complete duplication at several Humboldt and Trinity county libraries. See the Supplementary Information section of this notice for a list of libraries and their locations.

FOR FURTHER INFORMATION CONTACT: Mr. Sam Flanagan, NMFS Southwest Region, Protected Resources Division, (707) 825-5173.

SUPPLEMENTARY INFORMATION: Section 9 of the ESA and Federal regulations prohibit the “taking” of a species listed as endangered or threatened. The term take is defined under the ESA to mean harass, harm, pursue, hunt, shoot, wound, kill, trap, capture, or collect, or to attempt to engage in any such conduct. Harm is defined by NMFS to include significant habitat modification or degradation where it actually kills or injures fish or wildlife by significantly impairing essential behavioral patterns, including breeding, spawning, rearing, feeding, and sheltering (50 CFR 222.102).

Two types of permits may be issued by NMFS under section 10(a) of the ESA to non-Federal landowners to take listed species, under certain terms and conditions. These regulations governing NMFS' permits for threatened and endangered species are promulgated at 50 CFR 222.307. The first of these permits is the Enhancement of Survival Permit, which is authorized under section 10(a)(1)(A) of the ESA. The second of these permits is the ITP, which is authorized under section 10(a)(1)(B) of the ESA.

An application for an ITP must be accompanied by a Habitat Conservation Plan for which the Secretary of Commerce finds that: (1) the taking will be incidental; (2) the applicant will, to the maximum extent practicable, minimize and mitigate the impacts of such taking; (3) the applicant will ensure that adequate funding for the conservation plan will be provided; (4) the taking will not appreciably reduce the likelihood of survival and recovery of the species in the wild; and (5) such other measures NMFS may require as necessary or appropriate for the purposes of the HCP. HCPs can address both listed and currently unlisted species.

The District has applied to NMFS for an ITP under Section 10(a)(1)(B) of the ESA for its Mad River operations. The District is the sole supplier of domestic and “raw” industrial water to the greater Humboldt Bay area. The District sells treated water for domestic consumption on a wholesale basis to the cities of Eureka, Arcata, and Blue Lake, and to the Humboldt, McKinleyville, Fieldbrook, and Manila Community Services Districts. The District also sells untreated “raw” water on a wholesale basis to industrial users on the Samoa Peninsula, located on the north spit of Humboldt Bay. The District obtains its water through diversions from the Mad River.

The District's diversion facilities are located approximately 8 river miles (13 km) upstream from the mouth of the Mad River, near the town of Essex. The District diverts water utilizing two separate systems: (1) A domestic system, which supplies treated drinking water; and (2) an industrial system, which supplies untreated “raw” water. Water for the domestic system is withdrawn using four Ranney collectors situated in the Mad River. These collectors withdraw subsurface water from 60 to 90 ft (18 to 27 m) below the surface of the river bed. Water for the industrial system is withdrawn using a surface diversion facility referred to as Station 6. The District also manages flow releases from Matthews Dam at Ruth Lake, a 48,000 acre-feet (592 million Hectoliter) reservoir located approximately 85 river miles (137 km) upstream from the mouth of the Mad River. The District releases water from Matthews Dam during the low flow summer months to meet its diversion needs at the Essex facilities and its in-stream flow obligations below the Essex facilities.

The District has developed the Plan, with technical assistance from NMFS, to obtain an ITP for their activities related to the diversion of water from the Mad River. Activities proposed for ITP coverage include: (1) Releasing flow from Matthews Dam; (2) maintaining adequate capacity in the Matthews Dam tailrace and spillway pools; (3) diverting water from the Mad River in the vicinity of Essex (subsurface via Ranney collectors and surface via direct diversion facility (Station 6)); (4) gaining access to and maintaining Ranney collectors; (5) operation of Station 6 and its associated fish screens; (6) dredging the Station 6 forebay; (7) maintaining adequate flow to Station 6; (8) maintaining adequate water surface elevation at Station 6 during low flow months; (9) protecting banks and structures by repairing existing rock structures and/or revetments; and (10) bypassing flows below diversion facilities in the vicinity of Essex. The ITP and Plan will also cover required monitoring activities. The duration of the proposed ITP and Plan is 50 years.

The proposed ITP would authorize take, incidental to otherwise lawful activities, of fish in three evolutionarily significant units (ESUs) that are currently listed as threatened: the California Coastal chinook salmon (Oncorhynchus tshawytscha) ESU (CC chinook), the Southern Oregon/Northern California Coasts coho salmon (O. kisutch) ESU (SONCC coho), and the Northern California steelhead (O. mykiss) ESU (NC steelhead). NMFS anticipates implementation of the Plan may result in take of juvenile CC chinook, SONCC coho, and NC steelhead in the form of impingement or entrainment during diversion of surface flow and stranding, crushing, entombment, or modification of rearing habitat as a result of instream construction and operation of equipment.

NMFS prepared a draft Environmental Assessment concerning the proposed Plan and ITP and has made a preliminary determination that preparation of an Environmental Impact Statement is not necessary.

NMFS invites comment on the Plan, IA, and draft EA, the scope of alternatives and impacts to be considered, and effects to cultural and historic properties during the 30-day comment period which ends September 2, 2003. Comments should focus on the merits of the Plan, IA, and draft EA, ITP issuance requirements, the scope of alternatives and impacts to be considered, and effects to cultural and historic properties. Comments on other issues will be considered as beyond the scope of the decision associated with the ITP and Plan.

Hard bound copies of the ITP Application, Plan, IA, and draft EA are also available for viewing, or partial or complete duplication at the following libraries: (1) Eureka Main Library,1313 Third Street, Eureka, CA; Telephone (707) 269-1900; (2) Fortuna Branch, Humboldt County Library; 775 Fourteenth Street, Fortuna, CA; Telephone (707) 725-3460; (3) Arcata Branch, Humboldt Library, 500 Seventh Street, Arcata, CA; Telephone (707) 822-5954; (4) Weaverville Branch, Trinity Library, 211 North Main St., Weaverville, CA; Telephone (530) 623-1373; 5) Hayfork Branch, Trinity Library, Hyampom Rd., Hayfork, CA; Telephone (530) 628-5427. These documents are also available on the Internet at http://swr.nmfs.noaa.gov.

This notice is provided pursuant to section 10(c) of the ESA, National Environmental Policy Act (NEPA) regulations, and National Historic Preservation Act (NHPA) regulations. NMFS will evaluate the ITP application, associated documents, and submitted comments to determine whether the ITP application and associated documents meet the requirements of the ESA, NMFS' regulations for implementing NEPA (40 CFR 1506.6), and NHPA section 106 regulations (36 CFR 800). NMFS is furnishing this notice to allow other agencies and the public an opportunity to review and comment on these documents, to scope alternatives and impacts to be considered, and comment on effects to cultural and historic properties. All comments received will be available for review pursuant to section 10(c) of the ESA. The final ITP decision will be made no sooner than 30 days after date of publication of this notice in the Federal Register.

July 28, 2003.
Laurie K. Allen,
Acting Director, Office of Protected Resources, National Marine Fisheries Service.

[FR Doc. 03-19634 Filed 7-31-03; 8:45 am]

BILLING CODE 3510-22-S